ENVIRONMENTAL PROTECTION AGENCY

[ER-FRL-6681-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060375, ERP No. D-FHW-J40261-MT, Miller Creek Road Project, To Provide Safe and Improved Access between US 93 and the Miller Creek Area, Missoula County, MT.

Summary: EPA does not object to the proposed project. Rating LO.

EIS No. 20060408, ERP No. D-FAA-G51029-NM, Taos Regional Airport (SKX) Airport Layout Plan Improvements, Construction and Operation, Town of Taos, Taos County, NM.

Summary: EPA does not object to the proposed action. Rating LO.

EIS No. 20060412, ERP No. D-FTA-H40190-MO, Branson Transit Study, Proposed Alternatives Analysis selection, Transit Improvements, City of Branson, Taney County, MO.

Summary: EPA does not object to the proposed project. However, EPA recommends an analysis of potential air impacts on a nearby Class I area and a cumulative impact analysis of development in the area be included in the FEIS. Rating LO.

Final EISs

EIS No. 20060306, ERP No. F-FHW-E40800-FL, Indian Street Bridge PD&E Study, New Bridge Crossing of the South Fork of the St. Lucie River County Road 714 (Martin Highway)/SW 36th Street/Indian Street from Florida's Turnpike to East of Willoughby Boulevard, Martin County, FL.

Summary: EPA continues to have environmental concerns about impacts to wetlands and water quality.

EIS No. 20060388, ERP No. F-NOA-B91026-ME, Atlantic Herring Fishery Management Plan (FWP), Amendment 1, Management Measure Adjustment, Implementation, Gulf of Maine, George Bank, ME.

Summary: No formal comment letter was sent to the preparing agency.

EIS No. 20060410, ERP No. F-AFS-J65458-00, Wasatch-Cache National Forest Noxious Weed Treatment Program, Proposes to Treat Noxious Weeds 1.2 Million Acres of Wilderness and Non-Wilderness Areas, several counties, UT and Uinta County, WY.

Summary: EPA continues to have environmental concerns about the monitoring plan and adaptive management program. The monitoring plan should include components that will assess monitor adverse impacts to water quality and affects of herbicide applications on non-targeted plant species.

EIS No. 20060422, ERP No. F-FHW-G40188-LA, I-49 South Wax Lake Outlet to Berwick Route US-90, Transportation Improvements, Funding and Right-of-Way Acquisition, St. Mary Parish, LA.

Summary: No formal comment letter was sent to the preparing agency.

EIS No. 20060426, ERP No. F-AFS-J65466-00, North Zone Range 05 Project, Reauthorizing Livestock Grazing on Eight Existing Allotments, Black Hill National Forest, Bearlodge and Northern Hills Ranger Districts, Crook County, WY and Lawrence County, SD.

Summary: The FEIS addressed EPA's concerns; therefore, EPA does not object to the proposed action.

EIS No. 20060446, ERP No. F-COE-G32059-LA, Port of Iberia Project, To Determine the Feasibility of Deepening the Existing Navigation Channels between the POI and the Gulf of Mexico, Portions of the Gulf Intracoastal Waterway (GIWW) and Freshwater Bayou (FWB), LA.

Summary: No formal comment letter was sent to the preparing agency.

Dated: December 5, 2006.
Robert W. Hargrove,
Director, NEPA Compliance Division, Office of Federal Activities.

[FR Doc. E6-20892 Filed 12-7-06; 8:45 am]

BILLING CODE 6560-50-P